DEPARTMENT OF TRANSPORTATION

Federal Motor Carrier Safety Administration

[Docket No. FMCSA-2024-0091]

Agency Information Collection Activities; New Information Collection: Understanding Attitudes and Behaviors of Safety Belt Use Among Commercial Motor Vehicle Drivers

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. This notice announces that FMCSA intends to use quantitative data collection techniques through a self-administered online survey to understand CMV drivers' perceptions and behaviors regarding safety belt usage and road safety.

DATES: Comments on this notice must be received on or before August 12, 2024.

ADDRESSES: You may submit comments identified by Docket Number FMCSA-2024-0091 using any of the following methods:

• Federal eRulemaking Portal: https://www.regulations.gov. Follow the online instructions for submitting comments.

• Mail: Dockets Operations; U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001 between 9 a.m. and 5 p.m. ET, Monday through Friday, except Federal holidays. To be sure someone is there to help you, please call (202) 366-9317 or (202) 366-9826 before visiting Dockets Operations.

• Fax: 1-202-493-2251.

To avoid duplication, please use only one of these four methods. See the “Public Participation and Request for Comments” portion of the SUPPLEMENTARY INFORMATION section for instructions on submitting comments.

FOR FURTHER INFORMATION CONTACT: Brian Ronk, Marketing Specialist, Office of Outreach and Education, DOT, FMCSA, West Building 6th Floor, 1200 New Jersey Avenue SE, Washington, DC 20590-0001; Brian.Ronk@dot.gov.

SUPPLEMENTARY INFORMATION:

Instructions

All submissions must include the Agency name and docket number. For detailed instructions on submitting comments, see the Public Participation heading below. Note that all comments received will be posted without change to https://www.regulations.gov, including any personal information provided. Please see the Privacy Act heading below.

Public Participation and Request for Comments

If you submit a comment, please include the docket number for this notice (FMCSA-2024-0091), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2024-0091/document, click on this notice, click “Comment,” and type your comment into the text box on the following screen.

If you submit your comments by mail or hand delivery, submit them in an unbound format, no larger than 8½ by 11 inches, suitable for copying and electronic filing.

Comments received after the comment closing date will be included in the docket and will be considered to the extent practicable.

Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Background

Existing data on the usage of safety belts and perceptions related to road safety do not capture the diversity of different types of commercial motor vehicle (CMV) drivers in a post-coronavirus disease 2019 national emergency landscape. Understanding safety belt usage and perceptions of road safety among CMV drivers will assist FMCSA in gauging emerging trends among this cohort and will inform future messaging and communication efforts targeting CMV drivers.

Eligible participants are self-identified CMV drivers residing in the United States with internet access. The collection is an online voluntary survey, with a low burden for respondents and a low cost for the Federal Government. The collection is non-controversial and does not raise issues of concern to other Federal agencies. The results are not intended to be disseminated to the public, and the information gathered will not be used for the purpose of substantially informing influential policy decisions. The collection is targeted to the solicitation of opinions from respondents who have experience with the program or may have experience with the program in the future. Personally identifiable information is not being collected. There are no gifts or payment incentives (e.g., money or reimbursement of expenses, a token of appreciation) being provided to participants.

Title: Online Survey on Safety Belt Usage of Commercial Motor Vehicle Drivers.

OMB Control Number: 2126-XXXX.

Type of Request: New ICR.

Respondents: CMV drivers residing in the United States.

Estimated Number of Respondents: 1,060.

Estimated Time per Response: 10 minutes.

Expiration Date: N/A.

Frequency of Response: Other—The survey will be conducted over a 3-to-4-week period.

Estimated Total Annual Burden
Category of respondent | Number of respondents | Participation time (minutes) | Burden (hours)
Pre-testing survey instrument | 10 | 10 | 1.66
Piloting the survey | 50 | 10 | 8.33
Self-administered survey | 1,000 | 10 | 166.66
Totals | 1,060 | 10 | 176.65
Average Mean Hourly Wage—$21.92 |  |  | $3,872.17

Definitions: N/A.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this ICR.

Issued under the authority of 49 CFR 1.87.

Thomas P. Keane,
Associate Administrator Office of Research and Registration.

[FR Doc. 2024-13019 Filed 6-12-24; 8:45 am]

BILLING CODE 4910-EX-P